DEPARTMENT OF COMMERCE

National Oceanic and Atmospheric Administration

[RTID 0648-XC958]

Western Pacific Fishery Management Council; Public Meetings

AGENCY: National Marine Fisheries Service (NMFS), National Oceanic and Atmospheric Administration (NOAA), Commerce.

ACTION: Notice of a public meeting.

SUMMARY: The Western Pacific Fishery Management Council (Council) will hold its Pacific Pelagic Fishery Ecosystem Plan (FEP) Plan Team (PT) meeting to discuss fishery management issues and develop recommendations to the Council for future management of pelagic fisheries in the Western Pacific region.

DATES: The Pelagic PT meeting will be held between May 9 and May 11, 2023. For specific times and agendas, see SUPPLEMENTARY INFORMATION.

ADDRESSES: The meeting will be held in a hybrid format with in-person and remote participation (Webex) options available for the members, and public attendance limited to web conference via Webex. In-person attendance for members will be hosted at the Council office, 1164 Bishop Street, Suite 1400, Honolulu, HI 96813. Specific information on joining the meeting, connecting to the web conference and providing oral public comments will be posted on the Council website at www.wpcouncil.org. For assistance with the web conference connection, contact the Council office at (808) 522-8220.

FOR FURTHER INFORMATION CONTACT: Kitty M. Simonds, Executive Director, Western Pacific Fishery Management Council; telephone: (808) 522-8220.

SUPPLEMENTARY INFORMATION: The Pelagic PT meeting will be held on May 9-11, 2023, and run each day from 9 a.m. to 5 p.m. Hawaii Standard Time (HST). Public comment periods will be provided in the agenda. The order in which agenda items are addressed may change. The meetings will run as late as necessary to complete scheduled business.

Agenda for the Pelagic Plan Team Meeting

Tuesday, May 9, 2023, 9 a.m. to 5 p.m. HST

1. Welcome and Introductions

2. Approval of Agenda & Status of Previous Recommendations

3. Review 2022 Annual Stock Assessment and Fishery Evaluation (SAFE) Report Modules

A. Fishery Data Modules

i. American Samoa

ii. Commonwealth of the Northern Mariana Islands

iii. Guam

iv. Hawaii

v. International

vi. Fishery Observations

4. Plan Team Working Group on Bycatch Reporting Updates

A. Bycatch Summary Improvements for Hawaii Small Boat Pelagics

B. Status Update on Non-Commercial Module

5. Continued Review 2022 Annual SAFE Report Modules

A. Ecosystem Chapter

i. Environmental & Climate Variables

ii. Habitat section

iii. Marine Planning section

iv. Socioeconomics section

v. Protected Species

6. Online Portal SAFE Report Updates on Protected Species

7. Public Comment

Wednesday, May 10, 2023, 9 a.m. to 5 p.m. HST

8. SAFE Report Discussion

A. 2022 Report Region Wide Improvements & Recommendations

B. Other SAFE Report Matters

9. Revising the Council's Pelagic Fisheries Research Plan & Priorities

10. Update on Biological Opinions for the Hawaii and American Samoa Longline Fisheries

11. False Killer Whale Take Reduction Team Meeting Outcomes

12. Electronic Monitoring: Developing Implementation Options & Scenarios

13. Multi-Year Territorial Bigeye Tuna Catch & Allocation Specifications

14. International Fisheries

A. 2nd Workshop on Tropical Tuna Longline Management

B. Updates on International Fisheries

15. Feasibility of Stock Assessments for Incidental Pelagic Management Unit Species

16. Public Comment

Thursday, May 11, 2023, 9 a.m. to 5 p.m. HST

17. Follow-up Discussion on Pelagic Plan Team Agenda Items

18. Pelagic Plan Team Recommendations

19. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 20, 2023.
Rey Israel Marquez,
Acting Deputy Director, Office of Sustainable Fisheries, National Marine Fisheries Service.

[FR Doc. 2023-08677 Filed 4-24-23; 8:45 am]

BILLING CODE 3510-22-P